DEPARTMENT OF VETERANS AFFAIRS

Enhanced-Use Lease of Department of Veterans Affairs (VA) Real Property for the Development of a Housing Facility on One Parcel of Land Totaling Approximately 5.4 Acres of Land in Grand Island, Nebraska

AGENCY: Department of Veterans Affairs.

ACTION: Amended notice of intent to enter into an amended Enhanced-Use Lease (EUL).

SUMMARY: The Secretary of VA intends to amend the scope and terms of an existing EUL that was entered into during the month of December 2011, totaling approximately 4.6 acres of land, for the purpose of constructing and developing 102 units of supportive housing for Veterans. Since that time market conditions have changed making the original scope infeasible. This notice provides details on the current scope and terms of the proposed amended EUL. The EUL lessee will finance, design, develop, manage, maintain and operate up to 78 units of housing for eligible Veterans, on approximately 5.4 acres of land in one or more phases at the Grand Island VAMC campus for eligible homeless Veterans, and Veterans at risk of homelessness, on a priority placement basis, and provide supportive services that guide resident Veterans toward attaining long-term self-sufficiency.

FOR FURTHER INFORMATION CONTACT: Edward L. Bradley III, Office of Asset Enterprise Management (044), Department of Veterans Affairs, 810 Vermont Avenue NW., Washington, DC 20420, (202) 461-7778.

SUPPLEMENTARY INFORMATION: As required under Section 211(b)(2)(B) of Public Law 112-154, this amended EUL will adhere to the prior version of VA's EUL statute dated as of December 30, 2011.

Signing Authority

The Secretary of Veterans Affairs, or designee, approved this document and authorized the undersigned to sign and submit the document to the Office of the Federal Register for publication electronically as an official document of the Department of Veterans Affairs. Robert A. McDonald, Secretary of Veterans Affairs, approved this document on August 7, 2015 for publication.

Approved: August 10, 2015.
Jeffrey M. Martin,
Program Office Manager, Regulation Policy and Management, Office of General Counsel.

[FR Doc. 2015-19902 Filed 8-11-15; 8:45 am]

BILLING CODE 8320-01-P